DEPARTMENT OF ENERGY

Federal Energy Regulatory Commission

[Project No. 12740-001]

Hydro Matrix Limited Partnership; Notice of Intent To File License Application, Filing of Pre-Application Document, and Approval of Use of the Traditional Licensing Process

November 18, 2008.

a. Type of Filing: Notice of Intent to File License Application and Request to Use the Traditional Licensing Process.

b. Project No.: 12740-001.

c. Dated Filed: September 24, 2008.

d. Submitted By: Hydro Matrix Limited Partnership.

e. Name of Project: Flannagan Hydroelectric Project.

f. Location: The project would be located at the U.S. Army Corps of Engineers Flannagan Dam on the Pound River in Dickenson County, Virginia.

g. Filed Pursuant to: 18 CFR 5.3 of the Commission's regulations.

h. Applicant Contact: James B. Price, President, Hydro Matrix Limited Partnership, P.O. Box 903, Gatlinburg, TN 37738, (865) 436-0402 (business), (803) 215-4165 (mobile).

i. FERC Contact: Nicholas Palso, (202) 502-8854 or nicholas.palso@ferc.gov.

j. Hydro Matrix Partnership Limited filed its request to use the Traditional Licensing Process on September 24, 2008. Hydro Matrix Partnership Limited filed public notice of its request on September 24, 2008. In a letter dated November 12, 2008, the Director of the Office of Energy Projects approved Hydro Matrix Partnership Limited's request to use the Traditional Licensing Process.

k. With this notice, we are approving Hydro Matrix Limited Partnership's request to be designated as the non-federal representative for section 7 of the Endangered Species Act and its request to initiate consultation under section 106 of the National Historic Preservation Act; and recommending that it begin informal consultation with: (a) The U.S. Fish and Wildlife Service; and (b) the Virginia State Historic Preservation Officer, as required by section 106, National Historical Preservation Act, and the implementing regulations of the Advisory Council on Historic Preservation at 36 CFR 800.2.

l. Hydro Matrix Partnership Limited filed a Pre-Application Document (PAD; including a proposed process plan and schedule) with the Commission, pursuant to 18 CFR 5.6 of the Commission's regulations.

m. A copy of the PAD is available for review at the Commission in the Public Reference Room or may be viewed on the Commission's Web site (http://www.ferc.gov), using the “eLibrary” link. Enter the docket number, excluding the last three digits in the docket number field to access the document. For assistance, contact FERC Online Support at FERCONlineSupport@ferc.gov or toll free at 1-866-208-3676, or for TTY, (202) 502-8659. A copy is also available for inspection and reproduction at the address in paragraph h.

Register online at http://ferc.gov/docs-filing/esubscription.asp to be notified via e-mail of new filing and issuances related to this or other pending projects. For assistance, contact FERC Online Support.

Kimberly D. Bose,
Secretary.

[FR Doc. E8-27816 Filed 11-21-08; 8:45 am]

BILLING CODE 6717-01-P